DEPARTMENT OF AGRICULTURE

Agricultural Research Service

Notice of Intent To Grant Exclusive License

AGENCY: Agricultural Research Service, USDA.

ACTION: Notice of intent.

SUMMARY: Notice is hereby given that the U.S. Department of Agriculture, Forest Service, intends to grant to DVO, Inc. of Chilton, Wisconsin, an exclusive license to the Federal Government's rights in U.S. Patent No. 8,414,808, “Composite Components from Anaerobic Digested Fibrous Materials”, issued on April 9, 2013.

DATES: Comments must be received on or before October 23, 2017.

ADDRESSES: Send comments to: Tom Moreland, Technology Transfer Coordinator, USDA Forest Service, 1400 Independence Avenue SW., Washington, DC 20250 Mail Stop 2CE-021.

FOR FURTHER INFORMATION CONTACT: Tom Moreland of the USDA Forest Service at the Washington, DC address given above; telephone: 443-677-6858; or email: twmoreland@fs.fed.us.

SUPPLEMENTARY INFORMATION: The patent rights in this invention are co-owned by the United States of America, as represented by the Secretary of Agriculture, and DVO, Inc. of Chilton, Wisconsin. The prospective exclusive license will grant to the co-owner, DVO, Inc., an exclusive license to the Federal Government's patent rights. It is in the public interest to so license this invention as DVO, Inc. has submitted a complete and sufficient application for a license. The prospective exclusive license will be royalty-bearing and will comply with the terms and conditions of 35 U.S.C. 209 and 37 CFR 404.7. The prospective exclusive license may be granted unless, within thirty (30) days from the date of this published Notice, the Forest Service receives written evidence and argument which establishes that the grant of the license would not be consistent with the requirements of 35 U.S.C. 209 and 37 CFR 404.7.

Mojdeh Bahar,
Assistant Administrator.

[FR Doc. 2017-20180 Filed 9-21-17; 8:45 am]

BILLING CODE 3410-03-P